DEPARTMENT OF HEALTH AND HUMAN SERVICES

Meeting Notice for the President's Advisory Council on Faith-Based and Neighborhood Partnerships

In accordance with section 10(a)(2) of the Federal Advisory Committee Act (Pub. L. 92-463), the President's Advisory Council on Faith-based and Neighborhood Partnerships announces the following meetings:

Name: President's Advisory Council on Faith-based and Neighborhood Partnerships Council Meetings.

Time and Date: Monday, February 1st, 2016 1:00 p.m.-5:00 p.m. (EST) and Tuesday, February 2nd, 2016 10:00 a.m.-1:00 p.m. (EST).

Place: Meeting will be held at a location to be determined in the White House complex, 1600 Pennsylvania Ave NW., Washington, DC. Space is extremely limited. Photo ID and RSVP by January 25, 2016 are required to attend the event. Please RSVP to Ben O'Dell at partnerships@hhs.gov.

The meeting will be available to the public through a conference call line. Register to participate in the conference call on Monday, February 1st at the Web site https://attendee.gotowebinar.com/register/7321886895235169026. Register to participate in the conference call on Tuesday, February 2nd at the Web site https://attendee.gotowebinar.com/register/4788059050490531842.

Status: Open to the public, limited only by space available. Conference call limited only by lines available.

Purpose: The Council brings together leaders and experts in fields related to the work of faith-based and neighborhood organizations in order to: Identify best practices and successful modes of delivering social services; evaluate the need for improvements in the implementation and coordination of public policies relating to faith- based and other neighborhood organizations; and make recommendations for changes in policies, programs, and practices.

Contact Person for Additional Information: Please contact Ben O'Dell for any additional information about the President's Advisory Council meeting at partnerships@hhs.gov.

Agenda: For February 1, the agenda will begin with an Opening and Welcome from the Chairperson and Executive Director for the President's Advisory Council for Faith-based and Neighborhood Partnership. Then there will be presentation of any Recommendations for deliberation and vote. Lastly, there will be a discussion of subgroup deliberation as well as elements being considered for recommendations. For February 2, there will presentations on work to address poverty and income inequality after a welcome and opening from the Chairperson and Executive Director for the President's Advisory Council.

Public Comment: There will be an opportunity for public comment at the end of the meeting. Comments and questions can be sent in advance to partnerships@hhs.gov.

Dated: January 11, 2016.
Ben O'Dell,
Associate Director for Center for Faith-based and Neighborhood Partnerships at U.S. Department of Health and Human Services.

[FR Doc. 2016-00767 Filed 1-14-16; 8:45 am]

BILLING CODE 4154-07-P